DEPARTMENT OF LABOR

Employment and Training Administration

[TA-W-53,080]

Arland Tool and Manufacturing, Inc., Sturbridge, MA; Notice of Termination of Investigation

Pursuant to Section 221 of the Trade Act of 1974, as amended, an investigation was initiated on October 1, 2003, in response to a petition filed by the company on behalf of workers at Arland Tool and Manufacturing, Inc., Sturbridge, Massachusetts.

The petitioner has requested that the petition be withdrawn. Consequently, the investigation has been terminated.

Signed at Washington, DC this 24th day of October 2003.
Richard Church,
Certifying Officer, Division of Trade Adjustment Assistance.

[FR Doc. 03-29284 Filed 11-21-03; 8:45 am]

BILLING CODE 4510-30-P